DEPARTMENT OF THE INTERIOR

National Park Service

[NPS-WASO-NAGPRA-12963; PPWOCRADN0-PCU00RP14.R50000]

Notice of Inventory Completion: San Francisco State University NAGPRA Program, San Francisco, CA

AGENCY: National Park Service, Interior.

ACTION: Notice.

SUMMARY: The San Francisco State University NAGPRA Program has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the San Francisco State University NAGPRA Program. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the San Francisco State University NAGPRA Program at the address in this notice by July 8, 2013.

ADDRESSES: Jeffrey Boland Fentress, San Francisco State University NAGPRA Program, c/o Department of Anthropology, San Francisco State University, 1600 Holloway Avenue, San Francisco, CA 94132, telephone (415) 338-3075.

SUPPLEMENTARY INFORMATION: Notice is here given in accordance with the Native American Graves Protection and Repatriation Act (NAGPRA), 25 U.S.C. 3003, of the completion of an inventory of human remains and associated funerary objects under the control of the San Francisco State University NAGPRA Program. The human remains and associated funerary objects were removed from site CA-PLA-9 in Placer County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the San Francisco State University NAGPRA Program professional staff in consultation with representatives of the United Auburn Indian Community of the Auburn Rancheria of California.

History and Description of the Remains

In 1964, human remains representing, at minimum, one individual were removed from site CA-PLA-9 in Placer County, CA, by San Francisco State University personnel in conjunction with construction activities for the Middle Fork American River Project. Site materials from the Middle Fork American River Project were curated at San Francisco State University after excavation and surface collection. No known individuals were identified. The one associated funerary object is a basalt projectile point.

The age of site CA-PLA-9 is unknown, but the site is located within the historically documented territory of the Southern Maidu/Nisenan people. The projectile point may be associated with the Martis Culture (ca. 1050 B.C.-A.D. 450) which may be considered ancestral to the Maidu people. Oral history evidence presented during consultation indicates that the area has been continuously occupied by the Southern Maidu/Nisenan since the contact period and that there is a cultural affiliation between the United Auburn Indian Community of the Auburn Rancheria of California and the ancestral Southern Maidu/Nisenan people.

Determinations Made by the San Francisco State University NAGPRA Program

Officials of the San Francisco State University NAGPRA Program have determined that:

• Pursuant to 25 U.S.C. 3001(9), the human remains described in this notice represent the physical remains of one individual of Native American ancestry.

• Pursuant to 25 U.S.C. 3001(3)(A), the one object described in this notice is reasonably believed to have been placed with or near individual human remains at the time of death or later as part of the death rite or ceremony.

• Pursuant to 25 U.S.C. 3001(2), there is a relationship of shared group identity that can be reasonably traced between the Native American human remains and associated funerary object and the United Auburn Indian Community of the Auburn Rancheria of California.

Additional Requestors and Disposition

Lineal descendants or representatives of any Indian tribe or Native Hawaiian organization not identified in this notice that wish to request transfer of control of these human remains and associated funerary objects should submit a written request with information in support of the request to Jeffrey Boland Fentress, San Francisco State University NAGPRA Program, c/o Department of Anthropology, San Francisco State University, 1600 Holloway Avenue, San Francisco, CA 94132, telephone (415) 338-3075, by July 8, 2013. After that date, if no additional requestors have come forward, transfer of control of the human remains and associated funerary objects to the United Auburn Indian Community of the Auburn Rancheria of California may proceed.

The San Francisco State University NAGPRA Program is responsible for notifying the United Auburn Indian Community of the Auburn Rancheria of California that this notice has been published.

Dated: April 30, 2013.
Sherry Hutt,
Manager, National NAGPRA Program.

[FR Doc. 2013-13467 Filed 6-5-13; 8:45 am]

BILLING CODE 4312-50-P